COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products and a service to the Procurement List that will be furnished by nonprofit agencies employing persons who are blind or have other severe disabilities.

DATES: Effective Date: January 9, 2012.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Additions

On 9/23/2011 (76 FR 59117-59118); 9/30/2011 (76 FR 60810); and 10/7/2011 (76 FR 62391-62393), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 USC Chapter 85 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 USC Chapter 85) in connection with the products and service proposed for addition to the Procurement List.

End of Certification

Accordingly, the following products and service are added to the Procurement List:

Products:

NSN: M.R. 829—Meat Hammer, Tenderizing.

NPA: Cincinnati Association for the Blind, Cincinnati, OH.

Contracting Activity: Military Resale-Defense Commissary Agency (DeCA), Fort Lee, VA.

Coverage: C-List for the requirements of military commissaries and exchanges as aggregated by the Defense Commissary Agency.

NSN: M.R. 1018—Scrubber, Non Scratch, Tub and Shower.

NPA: Industries for the Blind, Inc., West Allis, WI.

Contracting Activity: Military Resale-Defense Commissary Agency (DeCA), Fort Lee, VA.

Coverage: C-List for the requirements of military commissaries and exchanges as aggregated by the Defense Commissary Agency.

NSN: 1670-01-578-6776—Deployment Bag, Parachute, 24 Feet (T-10).

NSN: 1670-01-578-6771—Deployment Bag, Parachute, 35 Feet (T-10R).

NPA: Winston-Salem Industries for the Blind, Inc., Winston-Salem, NC.

Contracting Activity: Defense Logistics Agency Aviation, Richmond, VA.

Coverage: C-List for 100% of the requirement of the Department of Defense, as aggregated by the Defense Logistics Agency Aviation, Richmond, VA.

NSN: 8455-01-591-5248—Lapel Pin, Navy Retired, Dual Flag.

NPA: Industries for the Blind, Inc., West Allis, WI.

Contracting Activity: Defense Logistics Agency Troop Support, Philadelphia, PA.

Coverage: C-List for 100% of the requirement of the Department of the Navy, as aggregated by the Defense Logistics Agency Troop Support, Philadelphia, PA.

Service:

Service Type/Location: Custodial Service, Whiteman AFB, MO.

NPA: Portco, Inc., Portsmouth, VA

Contracting Activity: Dept of the Air Force, FA4625 509 CONS CC, Whitman AFB, MO.

Barry S. Lineback,
Director, Business Operations.

[FR Doc. 2011-31615 Filed 12-8-11; 8:45 am]

BILLING CODE 6353-01-P